DEPARTMENT OF HOMELAND SECURITY

Coast Guard

33 CFR Part 165

[Docket No. USCG-2019-0418]

Safety Zones; Northern California and Lake Tahoe Area Annual Fourth of July Fireworks Events

AGENCY: Coast Guard, DHS.

ACTION: Notice of enforcement of regulation.

SUMMARY: The Coast Guard will enforce numerous safety zones within the Captain of the Port San Francisco Zone on specified dates and times in celebration of the Fourth of July. This action is necessary to protect personnel, vessels, and the marine environment from the dangers associated with pyrotechnics. Our regulation for marine events within Northern California and the Lake Tahoe area identifies the regulated area for these events. During the enforcement period, unauthorized persons or vessels are prohibited from entering into, transiting through, or remaining in the regulated areas without permission of the Captain of the Port or a designated representative.

DATES: The regulations in 33 CFR 165.1191, Table 1, will be enforced for the dates and times identified in the SUPPLEMENTARY INFORMATION section below.

FOR FURTHER INFORMATION CONTACT: If you have questions on this notice of enforcement, call or email Lieutenant Junior Grade Jennae Cotton, Waterways Management, U.S. Coast Guard; telephone (415) 399-3585, email SFWaterways@uscg.mil.

SUPPLEMENTARY INFORMATION: The Coast Guard will enforce the safety zones listed in 33 CFR 165.1191, Table 1, Item numbers 3, 4, 8, 9, 10, 11, 13, 14, 15, 16, 17, 18, 19, and 28. Dates, times, and locations are indicated in the table below and will be published in the Local Notice to Mariners at least 20 days prior to the date of each of the events.

3. Fourth of July Fireworks, City of Eureka
Sponsor | City of Eureka, CA.
Event Description | Fireworks Display.
Date | July 4, 2019.
Time | From noon on July 3, 2019 to 9:30 p.m. on July 4, 2019, the barge will load, transit, and stage at the display location. From 9:30 p.m. until approximately 10:55 p.m. on July 4, 2019, the safety zone will encompass all navigable waters within a 1,000-foot radius of the fireworks barge.
Location | The barge will load at Schneider Dock and transit to the display location in Humboldt Bay, CA, at approximate position 40°48.49′ N, 124°10.11′ W.
Regulated Area | 100-foot radius around the fireworks launch barge during the loading of pyrotechnics aboard the fireworks barge and during the transit of the fireworks barge from the loading location to the display location. Increases to a 1,000-foot radius upon commencement of the fireworks display.
4. Fourth of July Fireworks, Crescent City
Sponsor | Crescent City, CA.
Event Description | Fireworks Display.
Date | July 4, 2019.
Time | From 9:30 p.m. until approximately 10:20 p.m. on July 4, 2019.
Location | The West Jetty of Crescent City Harbor, Crescent City, CA, at approximate position 41°44′39″ N, 124°11′58″ W.
Regulated Area | Crescent City Harbor in the navigable waters within a 700-foot radius of the launch platform located on the West Jetty.
8. Fourth of July Fireworks, Berkeley Marina
Sponsor | Berkeley Marina.
Event Description | Fireworks Display.
Date | July 4, 2019.
Time | From 9 a.m. to 9 p.m. on July 4, 2019, the barge will load, transit, and stage at the display location. From 9 p.m. until approximately 10:20 p.m. on July 4, 2019, the safety zone will encompass all navigable waters within a 1,000-foot radius of the fireworks barge.
Location | The barge will load at Pier 50 in San Francisco, CA and transit to the display location near Berkeley Pier at approximate position 37°51′40″ N, 122°19′19″ W.
Regulated Area | 100-foot radius around the fireworks barge during the loading, transit, setup, and until the commencement of the scheduled display. Increases to a 1,000-foot radius upon commencement of the fireworks display.
9. Fourth of July Fireworks, City of Richmond
Sponsor | Various Sponsors.
Event Description | Fireworks Display.
Date | July 3, 2019.
Time | From 9 a.m. to 9 p.m. on July 3, 2019, the barge will load, transit, and stage at the display location. From 9 p.m. until approximately 10:20 p.m. on July 3, 2019, the safety zone will encompass all navigable waters within a 560-foot radius of the fireworks barge.
Location | The barge will load at Pier 50 in San Francisco and transit to the display location in Richmond Harbor in approximate position 37°54′40″ N, 122°21′05″ W, Richmond, CA.
Regulated Area | 100-foot radius around the fireworks barge during the loading, transit, setup, and until the commencement of the scheduled display. Increases to a 560-foot radius upon commencement of the fireworks display.
10. Fourth of July Fireworks, City of Sausalito
Sponsor | City of Sausalito.
Event Description | Fireworks Display.
Date | July 4, 2019.
Time | From 9 a.m. to 9 p.m. on July 4, 2019, the barge will load, transit, and stage at the display location. From 9 p.m. until approximately 10:15 p.m. on July 4, 2019, the safety zone will encompass all navigable waters within a 1,000-foot radius of the fireworks barge.
Location | The barge will load at Pier 50 in San Francisco, CA and transit to the display location 1,000 feet off-shore from Sausalito, CA waterfront, north of Spinnaker Restaurant in approximate position 37°51′30.93″ N, 122°28′28″ W.
Regulated Area | 100-foot radius around the fireworks launch barge during the loading of pyrotechnics aboard the fireworks barge and during the transit of the fireworks barge from the loading location to the display location. Increases to a 1,000-foot radius upon commencement of the fireworks display.
11. Fourth of July Fireworks, City of Martinez
Sponsor | City of Martinez.
Event Description | Fireworks Display.
Date | July 4, 2019.
Time | From 9:30 p.m. until approximately 10:20 p.m. on July 4, 2019.
Location | The fireworks will be launched from shore along the Carquinez Strait at approximate position 38°01′32″ N, 122°08′24″ W.
Regulated Area | The area of navigable waters within a 560-foot radius of the launch platform located near Waterfront Park.
13. Fourth of July Fireworks, City of Pittsburg
Sponsor | City of Pittsburg.
Event Description | Fireworks Display.
Date | July 4, 2019.
Time | Approximately 9 p.m. to 10:20 p.m. on July 4, 2019.
Location | Suisun Bay, CA.
Regulated Area | The area of navigable waters within a 560-foot radius of the launch platform located on the Pittsburg Marina Pier in approximate position 38°02′32″ N, 121°53′19″ W.
14. Delta Independence Day Celebration Fireworks
Sponsor | Various Sponsors.
Event Description | Fireworks Display.
Date | July 4, 2019.
Time | From 8 a.m. to 9 p.m. on July 4, 2019, the barge will load, transit, and stage at the display location. From 9 p.m. until approximately 10:20 p.m. on July 4, 2019, the safety zone will encompass all navigable waters within a 1,000-foot radius of the fireworks barge.
Location | The barge will load at the Dutra Corp Yard in Rio Vista, CA, and transit to the display location in the San Joaquin River, near Mandeville Island, CA, at approximate position 38°03′20.5″ N, 121°32′03″ W.
Regulated Area | 100-foot radius around the fireworks launch barge during the loading of pyrotechnics aboard the fireworks barge and during the transit of the fireworks barge from the loading location to the display location. Increases to a 1,000-foot radius upon commencement of the fireworks display.
15. Fourth of July Fireworks, Tahoe City, CA
Sponsor | Various Sponsors.
Event Description | Fireworks Display.
Date | July 4, 2019.
Time | From 7 a.m. to 9 p.m. on July 4, 2019, the barge will load, transit, and stage at the display location. From 9 p.m. until approximately 10:20 p.m. on July 4, 2019, the safety zone will encompass all navigable waters within a 1,000-foot radius of the fireworks barge.
Location | The barge will load at Kings Beach, CA and transit to the display location off-shore from Common Beach, Tahoe City, CA in approximate position 39°10.04′ N, 120°08.15′ W.
Regulated Area | 100-foot radius around the fireworks launch barge during the loading of pyrotechnics aboard the fireworks barge and during the transit of the fireworks barge from the loading location to the display location. Increases to a 1,000-foot radius upon commencement of the fireworks display.
16. Fourth of July Fireworks, Glenbrook NV
Sponsor | Various Sponsors.
Event Description | Fireworks Display.
Date | July 4, 2019.
Time | From 8 a.m. to 9 p.m. on July 4, 2019, the barge will load, transit, and stage at the display location. From 9 p.m. until approximately 10:25 p.m. on July 4, 2019, the safety zone will encompass all navigable waters within a 1,000-foot radius of the fireworks barge.
Location | The barge will load in Glenbrook, NV and transit to the display location off-shore Glenbrook Beach, NV in approximate position 39°05′18.40″ N, 119°56′34.67″ W.
Regulated Area | 100-foot radius around the fireworks launch barge during the loading of pyrotechnics aboard the fireworks barge and during the transit of the fireworks barge from the loading location to the display location. Increases to a 1,000-foot radius upon commencement of the fireworks display.
17. Independence Day Fireworks, Kings Beach, CA
Sponsor | North Tahoe Business Association.
Event Description | Fireworks Display.
Date | July 3, 2019.
Time | From 7 a.m. to 9 p.m. on July 3, 2019, the barge will load, transit, and stage at the display location. From 9 p.m. until approximately 10:20 p.m. on July 3, 2019, the safety zone will encompass all navigable waters within a 1,000-foot radius of the fireworks barge.
Location | The barge will load in Kings Beach, CA and will transit to the display location off-shore from Kings Beach, CA in approximate position 39°13.98′ N, 120°01.61′ W.
Regulated Area | 100-foot radius around the fireworks launch barge during the loading of pyrotechnics aboard the fireworks barge and during the transit of the fireworks barge from the loading location to the display location. Increases to a 1,000-foot radius upon commencement of the fireworks display.
18. Lights on the Lake Fourth of July Fireworks, South Lake Tahoe, CA
Sponsor | Various Sponsors.
Event Description | Fireworks Display.
Date | July 4, 2019.
Time | From 7 a.m. on July 1, 2019 to 9:15 p.m. on July 4, 2019, the barge will load, transit, and stage at the display location. From 9:15 p.m. until approximately 10:45 p.m. on July 4, 2019, the safety zone will encompass all navigable waters within a 1,000-foot radius of the fireworks barge.
Location | The barge will load in Edgewood, Stateline, NV and transit to the display location off South Lake Tahoe, CA near the Nevada border in approximate position 38°57′56″ N, 119°57′21″ W.
Regulated Area | 100-foot radius around the fireworks launch barge during the loading of pyrotechnics aboard the fireworks barge and during the transit of the fireworks barge from the loading location to the display location. Increases to a 1,000-foot radius upon commencement of the fireworks display.
19. Red, White, and Tahoe Blue Fireworks, Incline Village, NV
Sponsor | Various Sponsors.
Event Description | Fireworks Display.
Date | July 4, 2019.
Time | From 7:30 a.m. on July 3, 2019 to 9:10 p.m. on July 4, 2019, the barge will load, transit, and stage at the display location. From 9:10 p.m. until approximately 10:30 p.m. on July 4, 2019, the safety zone will encompass all navigable waters within a 1,000-foot radius of the fireworks barge.
Location | The barge will load at IVGID Boat Launch and transit to the display location 500-1,000 feet off Incline Village, NV in Crystal Bay in approximate position 39°14′13″ N, 119°57′01″ W.
Regulated Area | 100-foot radius around the fireworks launch barge during the loading of pyrotechnics aboard the fireworks barge and during the transit of the fireworks barge from the loading location to the display location. Increases to a 1,000-foot radius upon commencement of the fireworks display.
28. Execpro Services Fourth of July Fireworks
Sponsor | Execpro Services Inc.
Event Description | Fireworks Display.
Date | July 5, 2019.
Time | From 6 a.m. on July 3, 2019 to 9 p.m. on July 5, 2019, the barge will load, transit, and stage at the display location. From 9 p.m. until approximately 10:25 p.m. on July 5, 2019, the safety zone will encompass all navigable waters within a 1,000-foot radius of the fireworks barge.
Location | The barge will load at Obexer's Marine and Sand Harbor and transit to the display location off-shore from Incline Village, NV in approximate position 39°13′56″ N, 119°56′24″ W.
Regulated Area | 100-foot radius around the fireworks barge during the loading, transit, setup, and until the commencement of the scheduled display. Increases to a 1,000-foot radius upon commencement of the fireworks display.

Under the provisions of 33 CFR 165.1191, unauthorized persons or vessels are prohibited from entering into, transiting through, or anchoring in the safety zone during all applicable effective dates and times, unless authorized to do so by the PATCOM or other Official Patrol defined as a Federal, state, or local law enforcement agency on scene to assist the Coast Guard in enforcing the safety zones. During the enforcement period, if you are the operator of a vessel in one of the safety zones you must comply with directions from the Patrol Commander or other Official Patrol.

In addition to this notice of enforcement in the Federal Register, the Coast Guard plans to provide notification of this enforcement period via the Local Notice to Mariners.

If the Captain of the Port determines that the regulated area need not be enforced for the full duration stated in this notice of enforcement, a Broadcast Notice to Mariners may be used to grant general permission to enter the regulated area.

Dated: June 18, 2019.
Marie B. Byrd,
Captain, U.S. Coast Guard, Captain of the Port, San Francisco.

[FR Doc. 2019-13795 Filed 6-27-19; 8:45 am]

BILLING CODE 9110-04-P